DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On December 8, 2023, OFAC determined that the property and interests in property subject to U.S. jurisdiction of the following persons are blocked under the relevant sanctions authorities listed below.

Individuals

1. NGOMA, Willy (a.k.a. “Pap”; a.k.a. “RUTIKANGA, Ngarurira Ingoma”), Bunagana, North Kivu, Congo, Democratic Republic of the; DOB 1974; POB Kinigi, Rwanda; nationality Rwanda; alt. nationality Congo, Democratic Republic of the; Gender Male (individual) [DRCONGO] (Linked To: M23).

Designated pursuant to section 1(a)(ii)(G) of Executive Order (E.O.) 13413 of October 27, 2006, “Blocking Property of Certain Persons Contributing to the Conflict in the Democratic Republic of the Congo,” as amended by E.O. 13671 of July 8, 2014, “Taking Additional Steps To Address the National Emergency With Respect to the Conflict in the Democratic Republic of the Congo” (E.O. 13413, as amended) for having acted or purported to act for or on behalf of, directly or indirectly, M23, an entity whose property and interests in property are blocked pursuant to E.O. 13413, as amended.

2. RUKUNDA, Michel (a.k.a. “Makanika”), Hauts Plateaux, South Kivu, Congo, Democratic Republic of the; DOB 12 Sep 1974; POB Minembwe, Fizi Territory, South Kivu, Congo, Democratic Republic of the; nationality Congo, Democratic Republic of the; Gender Male; Military Registration Number 174935527545 (Congo, Democratic Republic of the) (individual) [DRCONGO].

Designated pursuant to section 1(a)(ii)(E)(i) of Executive Order (E.O.) 13413, as amended for being a leader of an entity, including any armed group, that has, or whose members are responsible for or complicit in, or have engaged in, directly or indirectly, the targeting of women, children, or any civilians through the commission of acts of violence (including killing, maiming, torture, or rape or other sexual violence), abduction, forced displacement, or attacks on schools, hospitals, religious sites, or locations where civilians are seeking refuge, or through conduct that would constitute serious abuse or violation of human rights or a violation of international humanitarian law, in or in relation to the Democratic Republic of the Congo (DRC).

3. YAKUTUMBA, William Amuri, South Kivu, Congo, Democratic Republic of the; DOB 1970; alt. DOB 1972; POB Lubondja, Fizi Territory, South Kivu, Congo, Democratic Republic of the; nationality Congo, Democratic Republic of the; Gender Male; Military Registration Number 172985458137 (Congo, Democratic Republic of the) (individual) [DRCONGO].

Designated pursuant to section 1(a)(ii)(E)(i) of Executive Order (E.O.) 13413, as amended for being a leader of an entity, including any armed group, that has, or whose members are responsible for or complicit in, or have engaged in, directly or indirectly, the targeting of women, children, or any civilians through the commission of acts of violence (including killing, maiming, torture, or rape or other sexual violence), abduction, forced displacement, or attacks on schools, hospitals, religious sites, or locations where civilians are seeking refuge, or through conduct that would constitute serious abuse or violation of human rights or a violation of international humanitarian law, in or in relation to the DRC.

Dated: December 8, 2023.
Bradley T. Smith,
Director, Office of Foreign Assets Control, U.S. Department of the Treasury.

[FR Doc. 2023-27492 Filed 12-13-23; 8:45 am]

BILLING CODE 4810-AL-P